COMMODITY FUTURES TRADING COMMISSION

Meeting of Global Markets Advisory Committee

AGENCY: Commodity Futures Trading Commission (“CFTC”).

ACTION: Notice.

SUMMARY: The CFTC announces a meeting of its Global Markets Advisory Committee (“GMAC”).

DATES: The meeting will be held on November 7, 2012, from 9:30 a.m. to 4:30 p.m. Members of the public who wish to submit written statements in connection with the meeting should submit them by October 31, 2012.

ADDRESSES: The meeting will take place in the Conference Center at the CFTC's headquarters, Three Lafayette Centre, 1155 21st Street NW., Washington, DC 20581. Written statements should be submitted to: Commodity Futures Trading Commission, Three Lafayette Centre, 1155 21st Street NW., Washington, DC 20581, attention: Office of the Secretary. Please use the title “Global Markets Advisory Committee” in any written statement you may submit. Any statements submitted in connection with the committee meeting will be made available to the public.

FOR FURTHER INFORMATION CONTACT: Kevin Batteh, Commodity Futures Trading Commission, Three Lafayette Centre, 1155 21st Street NW., Washington, DC 20581, (202) 418-5636.

SUPPLEMENTARY INFORMATION: This meeting is being held with less than fifteen days notice so that the Committee may obtain the important views of international regulators, futures industry professionals, and market participants on cross-border issues related to OTC derivatives reform implementation. There will be two panels: the first comprised of regulators from around the globe and the second comprised of the GMAC members.

The meeting will be open to the public with seating on a first-come, first-served basis. Members of the public who wish to listen to the meeting by telephone may do so by calling a toll-free telephone line to contact to a live, listen-only audio feed. Call-in participants should be prepared to provide their first name, last name and affiliation. Additionally, a video recording of the meeting will be published through a link on the CFTC's Web site. The call-in information, along with any conference and/or access codes for callers outside of the US will be posted on the CFTC Web site prior to the meeting. Domestic callers can dial 866-844-9416 and use the conference pass code “CFTC.” All written submissions provided to the CFTC in any form will also be published on the Web site of the CFTC.

Authority: 5 U.S.C. app. 2 § 10(a)(2).

Dated: October 24, 2012.
By the Commodity Futures Trading Commission.
Sauntia S. Warfield,
Assistant Secretary of the Commission.

[FR Doc. 2012-26533 Filed 10-26-12; 8:45 am]

BILLING CODE P